OFFICE OF GOVERNMENT ETHICS

5 CFR Part 2611

RIN 3209-AA61

Removal of U.S. Office of Government Ethics Guidance Documents Regulations

AGENCY: Office of Government Ethics.

ACTION: Final rule.

SUMMARY: Pursuant to Executive Order 13992, the U.S. Office of Government Ethics (OGE) is removing its regulations that detail the processes for the issuance of, modifications to, and petitions regarding guidance documents, as defined by Executive Order 13891.

DATES: This final rule is effective May 11, 2021.

FOR FURTHER INFORMATION CONTACT: Patrick J. Lightfoot, Assistant Counsel, or Margaret Dylus-Yukins, Assistant Counsel; Telephone: 202-482-9300.

SUPPLEMENTARY INFORMATION:

I. Background

As required by Executive Order 13891, “Promoting the Rule of Law Through Improved Agency Guidance Documents” (October 9, 2019), OGE issued 5 CFR part 2611 on August 20, 2020. 85 FR 51301 (August 20, 2020). 5 CFR part 2611 set forth processes and procedures for OGE's issuance of guidance documents as defined by Executive Order 13891. Also pursuant to Executive Order 13891, OGE established and maintained a Guidance Portal on its website, which provided links to all guidance documents in effect and issued by OGE. 85 FR 45638 (July 29, 2020). Notably, all of OGE's guidance documents are already posted elsewhere on the OGE website.

Executive Order 13992, “Revocation of Certain Executive Orders Concerning Federal Regulation” (January 20, 2021), revoked Executive Order 13891 and five other executive orders. Executive Order 13992 also directed agencies to “promptly take steps to rescind any orders, rules, regulations, guidelines, or policies, or portions thereof, implementing or enforcing” the revoked executive orders.

In accordance with Executive Order 13992, OGE is removing 5 CFR part 2611 in its entirety. OGE will retain a copy of the regulation. The Federal Register issuance at 85 FR 51301, which includes the full text of the regulation, will remain on OGE's website. OGE will also remove the Guidance Portal from its website; however, the documents from the Guidance Portal will continue to be available elsewhere on OGE's website.

II. Matters of Regulatory Procedure

Administrative Procedure Act

Pursuant to 5 U.S.C. 553(b)(3)(A), as Director of the Office of Government Ethics, the notice and comment procedures are being waived because these amendments concern matters of agency organization, procedure and practice.

Paperwork Reduction Act

The Paperwork Reduction Act (44 U.S.C. chapter 35) does not apply because this regulation does not contain information collection requirements that require approval of the Office of Management and Budget.

Unfunded Mandates Reform Act

For purposes of the Unfunded Mandates Reform Act of 1995 (2 U.S.C. chapter 5, subchapter II), this final rule would not significantly or uniquely affect small governments and will not result in increased expenditures by State, local, and tribal governments, in the aggregate, or by the private sector, of $100 million or more (as adjusted for inflation) in any one year.

Executive Order 13563 and Executive Order 12866

Executive Orders 13563 and 12866 direct agencies to assess all costs and benefits of available regulatory alternatives and, if regulation is necessary, to select the regulatory approaches that maximize net benefits (including economic, environmental, public health and safety effects, distributive impacts, and equity). Executive Order 13563 emphasizes the importance of quantifying both costs and benefits, of reducing costs, of harmonizing rules, and of promoting flexibility. In promulgating this rulemaking, OGE has adhered to the regulatory philosophy and the applicable principles of regulation set forth in Executive Orders 12866 and 13563. The rule is not a significant regulatory action for the purposes of Executive Order 12866.

Executive Order 12988

As Director of the Office of Government Ethics, I have reviewed this rule in light of section 3 of Executive Order 12988, Civil Justice Reform, and certify that it meets the applicable standards provided therein.

List of Subjects in 5 CFR Part 2611

Administrative practice and procedure, Guidance documents, Significant guidance documents.

Approved: May 6, 2021.
Emory Rounds,
Director, U.S. Office of Government Ethics.

For the reasons set forth in the preamble, and under the authority of 5 U.S.C. app. 101-505 (Ethics in Government Act of 1978), the U.S. Office of Government Ethics amends 5 CFR chapter XVI by removing part 2611.

[FR Doc. 2021-09954 Filed 5-10-21; 8:45 am]

BILLING CODE 6345-03-P